DEPARTMENT OF JUSTICE

Notice of Lodging of Proposed Amended Consent Decree Under the Comprehensive Environmental Response, Compensation and Liability Act and Proposed Stipulation, Settlement Agreement and Order Under the Federal Debt Collection Procedure Act and the Federal Priority Act

On January 9, 2013, the Department of Justice lodged a proposed Amended Consent Decree in United States v. the Atlas-Lederer Company, et al., Civil Action No. C-3-91-309 and a proposed Amended Stipulation, Settlement Agreement and Order in United States v. Larry Katz, et al., Civil Action No. 3:05-cv-0058, with the United States District Court for the Southern District of Ohio.

In Atlas-Lederer, the United States sought reimbursement of response costs in connection with the United Scrap Lead Superfund Site in Troy, Miami County, Ohio (“the Site”). The proposed Amended Consent Decree resolves the United States claims against a defunct scrap metal company, Senser Metal Company, and its deceased owner and operator, Saul Senser, under Section 107(a) of the Comprehensive Environmental Response, Compensation and Liability Act (“CERCLA”), 42 U.S.C. 9607(a), and also resolves the United States' claim against Mr. Senser and his estate under Ohio “veil piercing” law.

This is an “ability-to-pay” settlement based on financial analyses conducted by the Department's Antitrust Corporate Finance Unit. Senser Metal and Mr. Senser's Estate (represented by Kenneth Senser as the Executor the Estate of Saul Senser) will pay the United States $243,250.00 within 30 days of entry of the Consent Decree, and within 24 days thereafter will pay the United States any amount remaining in the estate following payment to the United States in the Katz case and the payment of certain documented attorneys' fees and expenses.

The Amended Consent Decree also resolves the United Scrap Lead Respondent Group's (“Respondent Group”) CERCLA claims against Senser Metal Company for response costs incurred by the Respondent Group in cleaning up the Site under an earlier Consent Decree. The settling Senser defendants will pay the Respondent Group $21,500 within 30 days of entry of the Consent Decree.

In Katz, the United States filed suit against Mr. Senser and other defendants seeking to recover funds under the Federal Debt Collection Procedures Act and the Federal Priority Act. In its complaint, the United States alleged, among other things, that Mr. Senser liquidated the assets of Senser Metal Company and fraudulently diverted a portion of the proceeds to himself. To resolve this claim, the Estate of Saul Senser, together with Kenneth Senser in his capacity as Executor of the Estate, shall pay the United States $243,250.00 within 30 days of entry of the Amended Stipulation, Settlement Agreement and Order.

While a prior Consent Decree and Stipulation of Settlement were lodged in these cases in March of 2012, it was subsequently determined that certain tax consequences attendant upon the liquidation of a pension plan in the estate meant that there were insufficient assets available to settle the United States' claims on the original basis and also provide for the widow of Mr. Senser and the expenses of his estate. The revised settlements in the two cases will recover at least $486,500 in response costs incurred by EPA at the Site. This is approximately $73,000 less than the settlement amount originally agreed to in the March 2012 Consent Decree and Stipulation, but will allow the Estate to pay certain previously incurred expenses and purchase an annuity to secure a lifetime monthly stipend for Mr. Senser's widow.

The publication of this notice opens a period for public comment on the proposed Amended Consent Decree and the proposed Amended Stipulation, Settlement Agreement and Order. Comments should be addressed to the Assistant Attorney General, Environment and Natural Resources Division, and should refer to United States v. the Atlas-Lederer Company, et al., D.J. Ref. 90-11-3-279B and United States v. Larry Katz, et al., D.J. Ref. 90-11-3-279/4. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, D.C. 20044-7611.

During the public comment period, the proposed Amended Consent Decree and the proposed Amended Stipulation, Settlement Agreement and Order may be examined and downloaded at this Justice Department Web site: http://www.usdoj.gov/enrd/Consent_Decrees.html. The Amended Stipulation is included as Appendix D to the Amended Consent Decree. We will provide a paper copy of the proposed Amended Consent Decree (including the Stipulation as an Appendix) upon written request and payment of reproduction costs. Please mail your request and payment to:

Consent Decree Library, U.S. DOJ-ENRD, P.O. Box 7611, Washington, DC 20044-7611.

Please enclose a check or money order for $10.00 (25 cents per page reproduction cost) payable to the United States Treasury.

Maureen Katz,
Assistant Chief, Environmental Enforcement Section, Environment and Natural Resources Division.

[FR Doc. 2013-00596 Filed 1-14-13; 8:45 am]

BILLING CODE 4410-15-P